DEPARTMENT OF HOUSING AND URBAN DEVELOPMENT

[FR-5130-N-22]

Privacy Act; Proposed New System of Records, Tracking-at-a-Glance® Case Management Services for the Disaster Housing Assistance Program

AGENCY: Office of the Chief Information Officer, HUD.

ACTION: Notification of the establishment of a new System of Records, Tracking-at-a-Glance® (TAAG).

SUMMARY: HUD proposes to establish a new Privacy Act record system to add to its inventory of systems of records subject to the Privacy Act of 1974 (5 U.S.C. 552a), as amended. The proposed new system of records is the TAAG case management system. This record system will be used for program implementation activities related to the Disaster Housing Assistance Program (DHAP) case management services. DHAP is a Federal Emergency Management Agency (FEMA) pilot grant program to provide temporary rental subsidies and case management for non-HUD assisted individuals and families displaced by Hurricanes Katrina or Rita. HUD is the servicing agency that administers the DHAP program for FEMA.

DATES: Effective Date: This action shall be effective without further notice on May 23, 2008, unless comments are received during or before this period that would result in a contrary determination.

Comment Due Date: May 23, 2008.

ADDRESSES: Interested persons are invited to submit comments regarding this notice to the Rules Docket Clerk, Office of General Counsel, Department of Housing and Urban Development, 451 Seventh Street, SW., Room 10276, Washington, DC 20410-0500. Communications should refer to the above docket number and title. Facsimile (FAX) comments are not accepted. A copy of each communication submitted will be available for public inspection and copying between 8 a.m. and 5 p.m. weekdays at the above address.

FOR FURTHER INFORMATION CONTACT: The Departmental Privacy Act Officer, Department of Housing and Urban Development, 451 Seventh Street, SW., Room 2256, Washington, DC 20410, Telephone Number (202) 402-8073 (This is not a toll-free number.) A telecommunication device for hearing- and speech-impaired individuals (TTY) is available at (800) 877-8339 (Federal Information Relay Service).

SUPPLEMENTARY INFORMATION: In July 2007, HUD and FEMA executed an Interagency Agreement (IAA) under which HUD acts as the servicing agency for administering the DHAP program. Pursuant to FEMA's grant authority, grants are provided to local PHAs to administer DHAP on behalf of FEMA. Under DHAP, public housing authorities (PHAs) will make rental assistance payments on behalf of eligible families to participating landlords for the duration of the program, ending on March 1, 2009. In order to prepare the family for this eventuality, FEMA requires that case management services be provided for the entire duration of DHAP. The objectives of these services are greater self-sufficiency and permanent housing status for participating individuals and families. This will include assisting program participants identify non-disaster supported housing solutions such as other affordable housing options that may be available for income eligible families. PHAs are required to report case management outputs and outcomes through TAAG, which is the DHAP case management reporting system for the duration of the program. TAAG will contain personal identifying information from PHAs about program participants; such as, name, social security number, etc. Please refer to the following “categories of records” section for other personal/sensitive data types collected, maintained and disseminated by this system.

Title 5 U.S.C. 552a(e)(4) and (11) provide that the public be afforded a 30-day period in which to comment on the new system of records. The new system report was submitted to the Office of Management and Budget (OMB), the Senate Committee on Homeland Security and Governmental Affairs, and the House Committee on Oversight and Government Reform pursuant to paragraph 4c of Appendix 1 to OMB Circular No. A-130, “Federal Agency Responsibilities for Maintaining Records About Individuals,” July 25, 1994 (59 FR 37914).

Authority: 5 U.S.C. 552a 88 Stat. 1896; 42 U.S.C. 3535 (d).

Dated: April 16, 2008.
Joseph M. Milazzo,
Acting Chief Information Officer.

HUD/PIH-06

SYSTEM NAME:

Tracking-at-a-Glance® (TAAG) case management system for the Disaster Housing Assistance Program (DHAP).

SYSTEM LOCATION:

Hollywood, Florida.

CATEGORIES OF INDIVIDUALS COVERED BY THE SYSTEM:

Individuals who are covered by this system are individuals and families displaced by Hurricanes Katrina or Rita, who receive rental subsidy through the DHAP and agree to all program requirements including case management.

CATEGORIES OF RECORD IN THE SYSTEM:

Files contain identifying information about the program participants and their household members such as name, social security number, and current address. In addition, the files contain information about education level, employment and training needs, elderly and disabled status, social service needs and service referrals. The client provides information regarding education level, employment and training, disability status and social service needs as information that the case manager may use to assess any barriers to permanent housing attainment and/or increased self-sufficiency. The case manager uses this information in order to identify appropriate service referrals, to help prepare clients for the eventual end of the DHAP in March 2009.

AUTHORITY FOR MAINTENANCE OF THE SYSTEM:

Legal authority for DHAP is based on the Department of Homeland Security's general grant authority under section 102(b)(2) of the Homeland Security Act, 6 U.S.C. 112, and sections 408(b)(1), 426 and 306(a) of the Robert T. Stafford Disaster Relief and Emergency Assistance Act (Stafford Act), 42 U.S.C. 5174(b)(1), § 5189d and § 5149(a), respectively.

PURPOSE:

TAAG captures pertinent data relating to family self-sufficiency, permanent housing status and service needs. TAAG supports DHAP grantees in their case management efforts, HUD staff in their program monitoring activities and providing required reports to FEMA in fulfillment of its responsibilities outlined within the IAA. The system was procured through contract number: C-DEN-02199. The system allows DHAP grantees to implement and report case management services for FEMA's DHAP program, for which HUD is the servicing agent. This system will assist with the implementation and administering of rental housing assistance and case management services to individuals and families whose residence have been rendered uninhabitable as a result of the disaster caused by Hurricanes Katrina and Rita. The data stored in this system of records may be used for research and statistical purposes. In such cases, data presented in any research report will be aggregated to a level that does not disclose information that can be used to identify any individual represented in the system.

ROUTINE USES OF RECORDS MAINTAINED IN THE SYSTEM, INCLUDING CATEGORIES OF USERS AND THE PURPOSE OF SUCH USES:

In addition to those disclosures generally permitted under 5 U.S.C. 552a(b) of the Privacy Act other routine uses include:

(a) To Case Managers—for caseload management and to track the progress and outcomes of individuals enrolled in the DHAP;

(b) To PHAs to monitor outcomes and monitor case management activities being provided at the local level;

(c) To FEMA—quarterly data reporting as required under the IAA to monitor program activities at the national level;

(d) To HUD or individuals under contract, grant or cooperative agreement to HUD, to monitor PHA efforts and compliance requirements, facilitate technical assistance and for research and evaluation of national program outcomes; and

(e) To HUD or individuals under contract, grant or cooperative agreement to HUD to monitor PHA activities and facilitate technical assistance to DHAP grantees.

POLICIES AND PROCEDURES FOR STORING, RETRIEVING, ACCESSING, RETAINING, AND DISPOSING OF RECORDS IN THE SYSTEM:

Records are stored electronically on a computer server located at: Southern Data Systems, 11560 SW 120th Street, Miami, FL 33176.

RETRIEVABILITY:

Records are retrieved by PHA name, participant's name, city, zip code, or general demographic characteristics. Clients cannot be searched through the use of a social security number.

SAFEGUARDS:

Records are maintained on a secure computer network protected by a firewall. Access to system is restricted to authorized users only, requires a user ID and is password protected. No manual files with unique identifier information that would allow an individual to be linked to the information in the file will be maintained.

RETENTION AND DISPOSAL:

Information is archived electronically and stored. Records will be retained and disposed of in accordance with the General Records Schedule included in HUD Handbook 2228.2, appendix 14, items 21-26.

SYSTEM MANAGER AND ADDRESS:

Tony Hebert, Public and Indian Housing, Office of Public Housing Investments, Department of Housing and Urban Development, 451 Seventh Street, SW., Room 4130, Washington, DC 20410.

NOTIFICATION AND RECORD ACCESS PROCEDURES:

The Department's rules for providing access to records to the individual concerned are in accordance with 24 CFR part 16—Implementation of the Privacy Act of 1974. Individuals seeking information, assistance, or inquiry about the existence of records should contact the Departmental Privacy Act Officer, Department of Housing and Urban Development, 451 Seventh Street, SW., Room 2256, Washington, DC 20410. Written requests must include the full name, current address, and telephone number of the individual making the request, as well as proof of identity, including a description of the requester's relationship to the information in question.

CONTESTING RECORD PROCEDURES:

The procedures for contesting the contents of records and appealing initial denials appear in 24 CFR part 16—Implementation of the Privacy Act of 1974. If additional information or assistance is required, contact:

(i) The Departmental Privacy Act Officer, Department of Housing and Urban Development, 451 Seventh Street, SW., Room 2256, Washington, DC 20410, if contesting the content of record; or

(ii) The Departmental Privacy Appeals Officer, Office of General Counsel, Department of Housing and Urban Development, 451 Seventh Street, SW., Washington, DC 20410, for appeals of initial denials.

RECORD SOURCE CATEGORIES:

DHAP housing authority grantees, case managers, contractors, and HUD employees.

EXEMPTIONS FROM CERTAIN PROVISIONS OF THE ACT:

None.

[FR Doc. E8-8844 Filed 4-22-08; 8:45 am]

BILLING CODE 4210-67-P